DEPARTMENT OF VETERANS AFFAIRS

Geriatrics and Gerontology Advisory Committee, Notice of Meeting

The Department of Veterans Affairs (VA) gives notice under the Federal Advisory Committee Act, 5 U.S.C. App.2, that a meeting of the Geriatrics and Gerontology Advisory Committee will be held virtually on Monday, September 27 and Tuesday, September 28, 2021. The meetings will begin at 12:00 p.m. and adjourn at 4:00 p.m. on both days. The meetings will be conducted virtually via WebEx and is open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

Although no time will be allocated for receiving oral presentations from the public, members of the public may submit written statements for review by the Committee to: Marianne Shaughnessy, CRNP, Ph.D., Designated Federal Officer, Veterans Health Administration by email at Marianne.Shaughnessy@va.gov. Comments will be accepted until close of business on September 15, 2021. In the communication, the writers must identify themselves and state the organization, association of person(s) they represent.

Any member of the public wishing to attend virtually, or seeking additional information should email Marianne.Shaughnessy@va.gov or call 202-407-6798, no later than close of business on September 15, 2021 to provide their name, professional affiliation, email address and phone number. For any members of the public that wish to attend, they may use the WebEx link for September 27, 2021: https://veteransaffairs.webex.com/veteransaffairs/j.php?MTID=m291b013c672555bac835f8667171e8a3 meeting number (access code): 199 581 4037, meeting password: : 8XgWivcp?32 or September 28, 2021: https://veteransaffairs.webex.com/veteransaffairs/j.php?MTID=m70e9b613ea98ee77f6c0615d1fe4706f meeting number (access code): 199 836 8378, meeting password: xpPN7x7j9e*, or to join by phone either day: 1-404-397-1596.

Dated: August 27, 2021.
LaTonya L. Small,
Federal Advisory Committee Management Officer.

[FR Doc. 2021-18880 Filed 8-31-21; 8:45 am]

BILLING CODE P